ENVIRONMENTAL PROTECTION AGENCY

40 CFR Part 62

[EPA-R06-OAR-2024-0232; FRL-12425-02-R6]

Approval and Promulgation of State Air Quality Plans for Designated Facilities and Pollutants; Oklahoma; Control of Emissions From Existing Municipal Solid Waste Landfills

AGENCY: Environmental Protection Agency (EPA).

ACTION: Final rule.

SUMMARY: Pursuant to the Federal Clean Air Act (CAA or the Act), the Environmental Protection Agency (EPA) is approving the CAA section 111(d) state plan submitted by the State of Oklahoma for sources subject to the Municipal Solid Waste (MSW) Landfills Emission Guidelines (EG). The Oklahoma MSW landfills plan was submitted to fulfill the state's obligations under CAA section 111(d) to implement and enforce the requirements under the MSW Landfills EG. The EPA is approving the state plan and amending the agency regulations in accordance with the requirements of the CAA.

DATES: This rule is effective on August 6, 2025. The incorporation by reference of certain material listed in the rule is approved by the Director of the Federal Register August 6, 2025.

ADDRESSES: The EPA has established a docket for this action under Docket ID No. EPA-R06-OAR-2024-0232. All documents in the docket are listed on the https://www.regulations.gov website. Although listed in the index, some information is not publicly available, e.g., Confidential Business Information or other information whose disclosure is restricted by statute. Certain other material, such as copyrighted material, is not placed on the internet. Publicly available docket materials are available electronically through https://www.regulations.gov.

FOR FURTHER INFORMATION CONTACT: Matthew Gesualdo, EPA Region 6 Office, Air and Radiation Division—State Planning and Implementation Branch, 214-665-6530, gesualdo.matthew@epa.gov. Please call or email the contact listed above if you need alternative access to material indexed but not provided in the docket.

SUPPLEMENTARY INFORMATION: Throughout this document “we,” “us,” and “our” means the EPA.

I. Background

The background for this action is discussed in detail in our December 18, 2024, proposal (89 FR 102847) and accompanying Technical Support Document (TSD). In that document, we proposed to approve the Oklahoma MSW landfills plan submitted by the Oklahoma Department of Environmental Quality (ODEQ) in accordance with the requirements of section 111(d) of the CAA and to amend 40 CFR part 62, subpart LL, to codify EPA's approval. We proposed to find that the Oklahoma MSW landfills plan, submitted by ODEQ on April 30, 2024, is at least as protective as the Federal requirements provided under the MSW landfills EG, codified at 40 CFR part 60, subpart Cf.

II. Response to Comments

We received one comment regarding our proposal. The comment and response to the comment are provided below. The EPA is finalizing as proposed; no changes have been made as a result of the comment received.

Comment: Cleaning up the environment is a must in any state. With the climate constantly changing this is something that should probably happened a long time ago. Cleaning up the landfills and keeping it to code will show a significant difference in the environment. It is a duty of ours to keep this place clean. Potentially by ignoring this you are putting the public's health at risk. This should be done in a timely manner.

Response: We appreciate the commenter's statements, which provide general support for regulations that reduce landfill emissions and help to protect human health and the environment.

III. Impact on Areas of Indian Country

Following the U.S. Supreme Court decision in McGirt v. Oklahoma, 140 S. Ct. 2452 (2020), the Governor of the State of Oklahoma requested approval under Section 10211(a) of the Safe, Accountable, Flexible, Efficient Transportation Equity Act of 2005: A Legacy for Users, Public Law 109-59, 119 Stat. 1144, 1937 (August 10, 2005) (“SAFETEA”), to administer in certain areas of Indian country (as defined at 18 U.S.C. 1151) the State's environmental regulatory programs that were previously approved by the EPA outside of Indian country. The State's request excluded certain areas of Indian country further described below.

The EPA has approved Oklahoma's SAFETEA request to administer all of the States's EPA-approved environmental regulatory programs in the requested areas of Indian country. As requested by Oklahoma, EPA's approval under SAFETEA does not include Indian country lands, including rights-of-way running through the same, that: (1) qualify as Indian allotments, the Indian titles to which have not been extinguished, under 18 U.S.C. 1151(c); (2) are held in trust by the United States on behalf of an individual Indian or Tribe; or (3) are owned in fee by a Tribe, if the Tribe (a) acquired that fee title to such land, or an area that included such land, in accordance with a treaty with the United States to which such Tribe was a party, and (b) never allotted the land to a member or citizen of the Tribe (collectively “excluded Indian country lands”).

The EPA's approval under SAFETEA expressly provided that to the extent the EPA's prior approvals of Oklahoma's environmental programs excluded Indian country, any such exclusions are superseded for the geographic areas of Indian country covered by the EPA's approval of Oklahoma's SAFETEA request. The approval also provided that future revisions or amendments to Oklahoma's approved environmental regulatory programs would extend to the covered areas of Indian country (without any further need for additional requests under SAFETEA).

As explained above, the EPA is approving the CAA section 111(d) state plan submitted by the State of Oklahoma for sources subject to the Municipal Solid Waste (MSW) Landfills Emission Guidelines (EG). The plan will apply statewide in Oklahoma, including to all areas of Indian country in the State of Oklahoma other than the excluded Indian country lands as described above, and will cover 57 sources located on privately-owned lands within reservation boundaries.

IV. Final Action

In this final action, the EPA is amending 40 CFR part 62, subpart LL, to reflect approval of the Oklahoma MSW landfills plan from ODEQ, received on April 30, 2024, in accordance with section 111(d) of the CAA.

V. Incorporation by Reference

In accordance with the requirements of 1 CFR 51.5, we are finalizing regulatory text that includes the incorporation by reference of Oklahoma Department of Environmental Quality (ODEQ) Chapter 100, Subchapter 47, adopted February 18, 2022, and effective September 15, 2022, which is part of the CAA section 111(d) Plan applicable to existing MSW landfills subject to the MSW Landfills Emission Guidelines, at 40 CFR part 60, subpart Cf, within ODEQ's jurisdiction in the State of Oklahoma. The regulatory provisions of ODEQ Chapter 100, Subchapter 47 incorporate the MSW Landfills Emissions Guidelines promulgated by the EPA at 40 CFR part 60, subpart Cf, and establish emission standards and compliance times for the control of municipal solid waste landfills, as defined in subpart Cf, that commenced construction, modification, or reconstruction on or before July 17, 2014. The EPA has made and will continue to make ODEQ Chapter 100, Subchapter 47, generally available at the EPA Region 6 office (please contact the person identified in the FOR FURTHER INFORMATION CONTACT section of this preamble for more information). They are also available at: https://www.regulations.gov. This incorporation by reference has been approved by the Office of the Federal Register and the state plan is federally enforceable under the CAA as of the effective date of this final rulemaking.

VI. Statutory and Executive Order Reviews

Under the CAA, the Administrator is required to approve a CAA section 111(d)/129 submission that complies with the provisions of the Act and applicable Federal regulations. 42 U.S.C. 7411(d); 42 U.S.C. 7429; 40 CFR part 60, subparts B and Cf; and 40 CFR part 62, subpart A. Thus, in reviewing CAA section 111(d)/129 state plan submissions, EPA's role is to approve state choices, provided that they meet the criteria of the Act and implementing regulations. Accordingly, this action merely proposes to approve state law as meeting Federal requirements and does not impose additional requirements beyond those imposed by state law. For that reason:

A. Executive Order 12866: Regulatory Planning and Review

This action is not a significant regulatory action as defined in Executive Order 12866 (58 FR 51735, October 4, 1993) and was therefore not subject to a requirement for Executive Order 12866 review.

B. Executive Order 14192: Unleashing Prosperity Through Deregulation

This action is not an Executive Order 14192 regulatory action because this action is not significant under Executive Order 12866.

C. Paperwork Reduction Act (PRA)

This action does not impose an information collection burden under the PRA (44 U.S.C. 3501 et seq.) because it does not contain any information collection activities.

D. Regulatory Flexibility Act (RFA)

This action is certified to not have a significant economic impact on a substantial number of small entities under the RFA (5 U.S.C. 601 et seq.). This action will approve a state plan pursuant to CAA section 111(d) and will therefore have no net regulatory burden for all directly regulated small entities.

E. Unfunded Mandates Reform Act (UMRA)

This action does not contain any unfunded mandate as described in UMRA, 2 U.S.C. 1531-1538, and does not significantly or uniquely affect small governments. This action imposes no enforceable duty on any State, local, or tribal governments or the private sector.

F. Executive Order 13132: Federalism

This action does not have federalism implications as specified in Executive Order 13132 (64 FR 43255, August 10, 1999). It will not have substantial direct effects on the states, on the relationship between the national government and the states, or on the distribution of power and responsibilities among the various levels of government.

G. Executive Order 13175: Consultation and Coordination With Indian Tribal Governments

This final action will apply to certain areas of Indian country throughout Oklahoma as discussed in the preamble, and therefore has tribal implications as specified in E.O. 13175 (65 FR 67249, November 9, 2000). However, this action will neither impose substantial direct compliance costs on federally recognized tribal governments, nor preempt tribal law. This action will not impose substantial direct compliance costs on federally recognized tribal governments because no actions will be required of tribal governments. This action will also not preempt tribal law as no Oklahoma tribe implements a regulatory program under the CAA and thus does not have applicable or related tribal laws. Consistent with the EPA Policy on Consultation with Indian Tribes (December 7, 2023), the EPA offered consultation (by letter dated December 18, 2024) on our proposed rulemaking to tribal governments that may be affected by this action. No tribes accepted EPA's offer for consultation, and as a result, a consultation did not occur.

H. Executive Order 13045: Protection of Children From Environmental Health Risks and Safety Risks

EPA interprets Executive Order 13045 (62 FR 19885, April 23, 1997) as applying only to those regulatory actions that concern environmental health or safety risks that EPA has reason to believe may disproportionately affect children, per the definitions of “covered regulatory action” in section 2-202 of the Executive Order. Therefore, this action is not subject to Executive Order 13045 because it approves a state program.

I. Executive Order 13211: Actions That Significantly Affect Energy Supply, Distribution and Use

This action is not subject to Executive Order 13211 (66 FR 28355, May 22, 2001), because it is not a significant regulatory action under Executive Order 12866.

J. National Technology Transfer and Advancement Act

This rulemaking does not involve technical standards. This action is not subject to requirements of Section 12(d) of the National Technology Transfer and Advancement Act of 1995 (15 U.S.C. 272 note) because application of those requirements would be inconsistent with the Clean Air Act.

List of Subjects in 40 CFR Part 62

Environmental protection, Administrative practice and procedure, Air pollution control, Incorporation by reference, Intergovernmental relations, Reporting and recordkeeping requirements, Waste treatment and disposal.

Dated: June 26, 2025.
Walter Mason,
Regional Administrator, Region 6.

For the reasons stated in the preamble, the Environmental Protection Agency amends 40 CFR part 62 as follows:

PART 62—APPROVAL AND PROMULGATION OF STATE PLANS FOR DESIGNATED FACILITIES AND POLLUTANTS

1. The authority citation for part 62 continues to read as follows:

Authority: 42 U.S.C. 7401 et seq.

Subpart LL—Oklahoma

2. Amend § 62.9100 by revising paragraph (b)(4) to read as follows:

§ 62.9100 Identification of plan.

* * * * *

(b) * * *

(4) Control of landfill gas emissions from existing municipal solid waste landfills, submitted by the Oklahoma Department of Environmental Quality on April 30, 2024.

* * * * *

3. Revise § 62.9160 to read as follows.

§ 62.9160 Oklahoma Department of Environmental Quality.

(a) Identification of plan. Control of air emissions from existing municipal solid waste landfills, as adopted by the State of Oklahoma on February 18, 2022, effective September 15, 2022, and submitted on April 30, 2024, by the Oklahoma Department of Environmental Quality (ODEQ) Air Quality Division Director in a letter dated April 29, 2024. The plan includes the regulatory provisions cited in paragraph (d) of this section, which EPA incorporates by reference.

(b) Identification of sources. The plan, as adopted by the State of Oklahoma on February 18, 2022, effective September 15, 2022, and submitted on April 30, 2024, applies to existing municipal solid waste landfills subject to the Municipal Solid Waste Landfills Emission Guidelines, at 40 CFR part 60, subpart Cf, within its jurisdiction in the State of Oklahoma.

(c) Effective Date. The effective date of the plan is August 6, 2025.

(d) Incorporation by reference. The material listed in this paragraph (d) is incorporated by reference in this section with the approval of the Director of the Federal Register under 5 U.S.C. 552(a) and 1 CFR part 51. All approved incorporation by reference (IBR) material is available for inspection at the EPA and at the National Archives and Records Administration (NARA). Contact the EPA Region 6 office at 1201 Elm Street, Suite 500, Dallas, Texas 75270; phone 214-665-2200. For information on the availability of this material at NARA, visit www.archives.gov/federal-register/cfr/ibr-locations or email fr.inspection@nara.gov. The material may be obtained from the State of Oklahoma, Secretary of State, Office of Administrative Rules, 421 NW 13th St. Suite 210, Oklahoma City, OK 73103, oar@sos.ok.gov, https://www.rules.ok.gov/home.

(1) Oklahoma Administrative Code (OAC) Title 252. Department of Environmental Quality, Chapter 100. Air Pollution Control, Subchapter 47. Control of Emissions from Existing Municipal Solid Waste Landfills, effective September 15, 2022.

(2) [Reserved]

[FR Doc. 2025-12599 Filed 7-3-25; 8:45 am]

BILLING CODE 6560-50-P